FEDERAL COMMUNICATIONS COMMISSION

47 CFR Part 54

[WC Docket No. 10-90; Report No. 3095]

Petitions for Reconsideration of Action in Rulemaking Proceeding

AGENCY: Federal Communications Commission.

ACTION: Petitions for Reconsideration.

SUMMARY: Petitions for Reconsideration (Petitions) have been filed in the Commission's Rulemaking proceeding by Patrick R. Halley, on behalf of Mescalero Apache Telecom, Inc. and Martin L. Stern, on behalf of Sacred Wind Communications, Inc.

DATES: Oppositions to the Petition must be filed on or before July 23, 2018. Replies to an opposition must be filed on or before August 2, 2018.

ADDRESSES: Federal Communications Commission, 445 12th Street SW, Washington, DC 20554.

FOR FURTHER INFORMATION CONTACT: Suzanne Yelen, Wireline Competition Bureau, at: (202) 418-7400; email: Suzanne.Yelen@fcc.gov.

SUPPLEMENTARY INFORMATION: This is a summary of the Commission's document, Report No. 3095, released June 25, 2018. The full text of the Petitions is available for viewing and copying at the FCC Reference Information Center, 445 12th Street SW, Room CY-A257, Washington, DC 20554. It also may be accessed online via the Commission's Electronic Comment Filing System at: http://apps.fcc.gov/ecfs/. The Commission will not send a Congressional Review Act (CRA) submission to Congress or the Government Accountability Office pursuant to the CRA, 5.U.S.C. because no rules are being adopted by the Commission.

Subject: Connect America Fund, Report and Order, FCC 18-37, published at 83 FR 18948, May 1, 2018, in WC Docket No. 10-90. This document is being published pursuant to 47 CFR 1.429(e). See also 47 CFR 1.4(b)(1) and 1.429(f), (g).

Number of Petitions Filed: 2.

Federal Communications Commission.
Katura Jackson,
Federal Register Liaison Officer, Office of the Secretary.

[FR Doc. 2018-14418 Filed 7-5-18; 8:45 am]

BILLING CODE 6712-01-P